DEPARTMENT OF THE INTERIOR

Fish and Wildlife Service

Notice of Intent To Prepare a Comprehensive Conservation Plan and Environmental Assessment and Announcement of a Public Scoping Meeting for Marin Islands National Wildlife Refuge, Marin County, CA

AGENCY: Fish and Wildlife Service, Department of the Interior.

ACTION: Notice of intent and announcement of a public scoping meeting.

SUMMARY: The Fish and Wildlife Service (Service) is preparing a Comprehensive Conservation Plan (CCP) and Environmental Assessment (EA) for Marin Islands National Wildlife Refuge (Refuge). This notice advises the public that the Service intends to gather information necessary to prepare a CCP and EA pursuant to the National Wildlife Refuge System Administration Act of 1966, as amended, and the National Environmental Policy Act (NEPA). The public and other agencies are encouraged to participate in the planning process by sending written comments on courses of action that the Service should consider and potential impacts that could result from CCP implementation on the Marin Islands National Wildlife Refuge. In addition, the public and other agencies are encouraged to attend the public scoping meeting. The Service is also furnishing this notice in compliance with the Service CCP policy to obtain suggestions and information on the scope of issues to include in the EA.

DATES: To ensure that the Service has adequate time to evaluate and incorporate suggestions and other input into the planning process, comments should be received on or before November 8, 2004. A public scoping meeting to solicit comments on the contents of the CCP and the vision of the Refuge for the next 15 years will be held on October 19, 2004 from 6:30 p.m. to 8:30 p.m. at the Marin Center in San Rafael, California (address follows).

ADDRESSES: Send written comments or requests to be added to the mailing list to the following address: Winnie Chan, Refuge Planner, Marin Islands NWR, San Francisco Bay National Wildlife Refuge Complex, P.O. Box 524, Newark, California 94560. Written comments may also be faxed to (510) 792-5828.

FOR FURTHER INFORMATION CONTACT: Christy Smith, Refuge Manager, (707) 562-3000, or Winnie Chan, Refuge Planner, (510) 792-0222.

SUPPLEMENTARY INFORMATION: The National Wildlife Refuge System Administration Act of 1966, as amended by the National Wildlife Refuge System Improvement Act of 1997, mandates that all lands within the National Wildlife Refuge System are to be managed in accordance with an approved CCP. The CCP will guide management decisions for the next 15 years and identify refuge goals, long-range objectives, and management strategies for achieving these objectives. The planning process will consider many elements, including habitat and wildlife management, habitat protection, recreational use, and environmental effects. Public input into this planning process is very important. The CCP will provide other agencies and the public with a clear understanding of the desired conditions for the Refuge and how the Service will implement management strategies.

Comments received will be used to develop goals, key issues evaluated in the NEPA document, and habitat management strategies. All comments received, including names and addresses will become part of the administrative record and may be made available to the public. Opportunities for public participation will occur throughout the process. The address for the scoping meeting is the Marin Center at 10 Avenue of the Flags, San Rafael, California, 94903. Persons needing reasonable accommodations in order to attend and participate in the public scoping meeting should contact the Refuge Planner at (510) 792-0222 sufficiently in advance of the meeting to allow time to process the request.

The Service will send Planning Updates to people who are interested in the CCP process. These mailings will provide information on how to participate in the CCP process. The CCP is expected to be completed in early 2006. Interested federal, state, and local agencies, Tribes, organizations, and individuals will be contacted for input.

Background

The Marin Islands National Wildlife Refuge is located off the shoreline of the City of San Rafael, Marin County, in San Pablo Bay. The 339-acre Refuge of tidelands and two islands was established in 1992 “* * * for the development, advancement, management, conservation, and protection of fish and wildlife resources * * *” The Marin Islands are jointly owned by the California Department of Fish and Game, California State Lands Commission, and the Fish and Wildlife Service. The Fish-and-Game-owned lands are designated as a State Ecological Reserve and the Service-owned lands are designated as a National Wildlife Refuge. The Service provides day-to-day management of the entire Marin Islands NWR and State Ecological Reserve under the National Wildlife Refuge System Administration Act, as amended.

The Refuge supports one of the largest heron and egret colonies in northern California. The primary purpose of the Refuge is “to protect an important existing egret and heron rookery on West Marin Island and to increase colonial nesting bird use on East Marin Islands,” as described in the 1992 Environmental Assessment.

A draft CCP and NEPA document is expected to be available for public review and comment in mid-2005.

Ken McDermond,
Acting Manager, CA/NV Operations, Sacramento, California.

[FR Doc. 04-21268 Filed 9-21-04; 8:45 am]

BILLING CODE 4310-55-P